DEPARTMENT OF TRANSPORTATION

Federal Highway Administration

Environmental Impact Statement: DeRenne Avenue in Chatham County, Georgia

AGENCY: Federal Highway Administration (FHWA), United States Department of Transportation (USDOT).

ACTION: Notice of Intent.

SUMMARY: The FHWA is issuing this notice to advise the public that an EIS will be prepared for proposed improvements along I-516/SR21/CS 1503/DeRenne Avenue. The project would begin approximately 0.72 mile west of Mildred Street and end west of the Harry S. Truman Parkway ramps at DeRenne Avenue, for a project corridor of approximately 2.6 miles.

FOR FURTHER INFORMATION CONTACT: Jennifer Giersch, Federal Highway Administration, 61 Forsyth Street SW., Suite 17T100, Atlanta, Georgia 30303, Telephone: (404) 562-3653, Email: jennifer.giersch@dot.gov.

David Moyer, P.E., Project Manager, Georgia Department of Transportation, 600 West Peachtree Street, 25th Floor, Atlanta, Georgia 30308, Telephone: (404) 631-1588, Email: dmoyer@dot.ga.gov.

Eric Duff, State Environmental Administrator, Georgia Department of Transportation, One Georgia Center, 600 West Peachtree Street NW., 25th Floor, Atlanta, Georgia 30308. Telephone: (404) 291-5880. Email: eduff@dot.ga.gov.

Ryan Perry, Ph.D., NEPA Analyst, Georgia Department of Transportation, One Georgia Center, 600 West Peachtree Street NW., 16th Floor, Atlanta, Georgia 30308. Telephone: (404) 631-1271. Email: vperry@dot.ga.gov.

SUPPLEMENTARY INFORMATION: The FHWA, in cooperation with the Georgia Department of Transportation (GDOT), will prepare an Environmental Impact Statement (EIS) for proposed improvements along I-516/SR 21/CS 1503/DeRenne Avenue and Hampstead Avenue. An evaluation under Section 4(f) of the DOT Act of 1966 may also be required due to the potential for impacts to resources eligible for the National Register of Historic Places. The project is being developed to alleviate congestion and improve mobility along the I-516 and SR 21/CS 1503/DeRenne Avenue corridor. Proposed project elements may include modifications at the interchange of I-516 and SR 21, improvements along roads adjacent to DeRenne Avenue, intersection upgrades, and improvements along DeRenne Avenue.

A study corridor large enough to incorporate detailed studies for the full range of alternatives to be considered for the project will be evaluated. The EIS will be prepared in accordance with the National Environmental Policy Act (NEPA: 42 U.S.C. 4321 et seq.) of 1969, and the regulations implementing NEPA set forth in 40 CFR parts 1500-1508 and 23 CFR part 771, as well as the provisions of the Safe Accountable Flexible Efficient Transportation Equity Act: A Legacy for Users (SAFETEA-LU) and Moving Ahead for Progress in the 21st Century (MAP-21). The document will also satisfy the requirements of other applicable statutes, rules and regulations including the Georgia Environmental Policy Act (GEPA).

Public involvement is a critical component of NEPA project development. To date, outreach efforts have included development of a local Steering Committee, a Public Information Open House, targeted outreach within several communities along the project corridor, and a field site visit with public walk-through. To ensure that the full range of issues related to this proposed action are addressed and all significant issues identified, public outreach and involvement will continue, and comments and suggestions are invited from all interested parties. Specific efforts to encourage involvement by, and solicit comments from, minority and low-income populations in the project study area will continue through the EIS process. A public hearing will be held after the completion of the Draft EIS, and the EIS will be made available for review by federal and state resource agencies and the public. Project information, comments, video, and concepts will be maintained throughout the EIS process on an existing link through the City of Savannah Web site (www.savannahga.gov/derenne).

Additional agency coordination will begin with publication of the NOI, followed by initial contact and scoping occurring within 45 to 60 days after publication of the NOI and continuing coordination throughout the EIS process.

Regulations implementing NEPA, as well as the provisions of SAFETEA-LU and MAP-21, call for enhanced agency and public involvement in the EIS process. An invitation to all Federal and non-Federal agencies and Native American tribes that may have an interest in the proposed project will be extended. In the event that an agency or tribe is not invited and would like to participate, please contact Ryan Perry at the contact information listed above.

(Catalog of Federal Domestic Assistance Program Number 20.205, Highway Planning and Construction. The regulations implementing Executive Order 12372 regarding intergovernmental consultation on Federal programs and activities apply to this program.)

Issued on: July 11, 2017.
Rodney N. Barry,
Division Administrator, Federal Highway Administration, Atlanta, GA.

[FR Doc. 2017-15035 Filed 7-17-17; 8:45 am]

BILLING CODE P